INTERNATIONAL TRADE COMMISSION

[USITC SE-16-014]

Government in the Sunshine Act Meeting Notice

TIME AND DATE: April 26, 2016 at 11 a.m.

PLACE: Room 101, 500 E Street SW., Washington, DC 20436, Telephone: (202) 205-2000.

STATUS: Open to the public.

MATTERS TO BE CONSIDERED: 1. Agendas for future meetings: None.

2. Minutes.

3. Ratification List.

4. Vote in Inv. No. 731-TA-282 (Fourth Review) (Petroleum Wax Candles from China). The Commission is currently scheduled to complete and file its determination and views of the Commission on May 10, 2016.

5. Outstanding action jackets: None.

In accordance with Commission policy, subject matter listed above, not disposed of at the scheduled meeting, may be carried over to the agenda of the following meeting.

Issued: April 15, 2016.
By order of the Commission.
William R. Bishop,
Supervisory Hearings and Information Officer.

[FR Doc. 2016-09232 Filed 4-18-16; 11:15 am]

BILLING CODE 7020-02-P